NEIGHBORHOOD REINVESTMENT CORPORATION

Sunshine Act Meetings; Annual Board of Directors Meeting

TIME AND DATE: 2:00 p.m., Thursday, June 27, 2019.

PLACE: NeighborWorks America—Gramlich Boardroom, 999 North Capitol Street NE, Washington, DC 20002.

STATUS: Open (with the exception of Executive Session).

MATTERS TO BE CONSIDERED: The General Counsel of the Corporation has certified that in his opinion, one or more of the exemptions set forth in 5 U.S.C. 552(b)(2) and (4) permit closure of the following portion(s) of this meeting:

• Report from CEO

• Board and Officer Elections

Agenda

I. CALL TO ORDER

II. Approval of Minutes

III. Executive Session: Report from CEO

IV. Executive Session: Board/Officer Elections

V. Action Item Grants to Capital Corps

VI. Discussion Item Audit Committee Report

VII. Discussion Item Investment Policy

VIII. Discussion Item Annual Ethics Review

IX. Discussion Item Client Management System

X. Discussion Item Preview of Federal Budget Process—FY2020 and FY2021

XI. Management Program Background and Updates

XII. Adjournment

CONTACT PERSON FOR MORE INFORMATION: Rutledge Simmons, EVP & General Counsel/Secretary, (202) 760-4105; Rsimmons@nw.org.

Rutledge Simmons,
EVP & General Counsel/Corporate Secretary.

[FR Doc. 2019-12907 Filed 6-13-19; 4:15 pm]

BILLING CODE 7570-02-P